DEPARTMENT OF JUSTICE

Drug Enforcement Administration

Rory Patrick Doyle, M.D.; Revocation of Registration

On July 31, 2002, the then-Deputy Administrator of the Drug Enforcement Administration (DEA) issued a Notice of Immediate Suspension of Registration and Order to Show Cause to Rory Patrick Doyle, M.D. (Dr. Doyle) of St. Petersburg, Florida. Dr. Doyle was notified of an opportunity to show cause as to why DEA should not revoke his DEA Certificate of Registration, BD0504200, as a practitioner, and deny any pending applications for renewal of such registration pursuant to 21 U.S.C. 823(f) and 824(a) for reason that his continued registration would be inconsistent with the public interest. The order further notified Dr. Doyle that his DEA registration was immediately suspended as an imminent danger to the public health and safety pursuant to 21 U.S.C. 824(d).

The Order to Show Cause and Notice of Immediate Suspension alleged in relevant part, the following:

1. On May 13, 2002, the State of Florida, Department of Health (Department of Health) issued an Order of Emergency Suspension of Dr. Doyle's State medical license. The order was based on the following:

a. On July 20, 2000, the St. Petersburg Police Department arrested Dr. Doyle for committing lewd and lascivious acts on two minor females in 1994, 1995 and 2000. On July 25, 2000, Dr. Doyle was released from custody after posting $100,000 bail.

b. On August 11, 2000, the Assistant State Attorney in Florida filed an Information against Dr. Doyle in the Circuit Court of the Sixth Judicial Circuit for Pinellas County, Florida. In the Information, Dr. Doyle was charged with one count of first degree felony, lewd or lascivious molestation of a child less than twelve years of age, and two counts of second degree felony, handling and fondling of a child under the age of sixteen years of age.

c. Dr. Doyle's trial was scheduled for August 14, 2001, in the Circuit Court of the Sixth Judicial Circuit. Dr. Doyle failed to appear for the trial.

d. On November 6, 2001, the court issued a Writ of Capias for Dr. Doyle's arrest. Federal and state efforts to arrest him have been unsuccessful.

e. The Department of Health independently reviewed the allegations set forth in the Information. On May 6, 2002, two (2) Department of Health attorney's interviewed CP, a former patient, who verified the pertinent allegations set forth in the Information. CP further volunteered that Dr. Doyle molested her on at least four (4) occasions between 1994 and 1995. CP was between the ages of 13 and 14 at the time Dr. Doyle committed these acts. In 1994 and 1995, Dr. Doyle examined CP and issued prescriptions to her.

f. The Department of Health found that through Dr. Doyle's activities, he engaged in sexual misconduct with a patient. Accordingly, the Department of Health immediately suspended Dr. Doyle's state medical license, effective May 13, 2002.

2. On May 22, 2002, DEA investigators visited Dr. Doyle's registered location at in St. Petersburg, Florida, to request that he voluntarily surrender his DEA registration. Neither the receptionist nor Dr. Doyle's former medical colleague could identify his whereabouts.

According to the investigative file, the Notice of Suspension, Order to Show Cause was believed to have been left at Dr. Doyle's registered address on August 6, 2002, but because there was no written record of such, the order was redelivered to Dr. Doyle's registered address on January 21, 2003. More than thirty days have passed since the Notice of Suspension, Order to Show Cause was served upon Dr. Doyle. DEA has not received a request for hearing or any other reply from Dr. Doyle or anyone purporting to represent him in this matter.

Therefore, the Acting Deputy Administrator of DEA, finding that (1) thirty days having passed since the delivery of the Notice of Suspension, Order to Show Cause to Dr. Doyle, and (2) no request for hearing having been received, concludes that Dr. Doyle is deemed to have waived his hearing right. See David W. Linder, 67 FR 12579 (2002). After considering material from the investigative file in this matter, the Acting Deputy Administrator now enters her final order without a hearing pursuant to 21 CFR 1301.43(d) and (e) and 1301.46.

The Acting Deputy Administrator finds that Dr. Doyle is currently registered with DEA as a practitioner under DEA Registration, BD0504200, in Schedules II through V. That registration expires on June 30, 2004. A review of the investigative file reveals that on May 13, 2002, the Department of Health issued an Order of Emergency Suspension of License (Order of Suspension) summarily suspending Dr. Doyle's medical license in that state. In its Order of Suspension, the Department of Health found in relevant part that in 1994, 1995, and in 2000, Dr. Doyle committed improper acts with two minor females.

As recited in the Notice of Suspension, Order to Show Cause, Dr. Doyle's conduct resulted in his being charged with one count of first degree felony, lewd and lascivious molestation of a child less than twelve years of age in violation section 800.04(5), Florida Statutes, and two counts of second degree felony, handling and fondling of a child under the age of sixteen years in violation of section 800.04(1), Florida Statutes. These matters were corroborated by subsequent interviews by the Department of Health with the alleged victim. In addition, Dr. Doyle failed to appear for his August 14, 2001 criminal trial in the matter.

The investigative file contains no evidence that the Department of Health order suspending Dr. Doyle's medical license has been lifted, nor is there evidence before the Acting Deputy Administrator that Dr. Doyle's medical license has been reinstated. Therefore, the Acting Deputy Administrator finds that Dr. Doyle is not currently authorized to practice medicine in the State of Florida, and as a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See James F. Graves, M.D., 67 FR 70968 (2002); Dominick A. Ricci, M.D., 58 FR 51104 (1993); Bobby Watts, M.D., 53 FR 11919 (1988). The agency has also maintained this standard in matters involving the immediate suspension of a DEA Certificate of Registration under 21 U.S.C. 824(d). Chemical Dependence Associates of Houston, 58 FR 37505 (July 12, 1993).

Here, it is clear that Dr. Doyle's medical license is currently suspended and therefore, he is not currently licensed to handle controlled substances in Florida, the State where he maintains a DEA controlled substance registration. Therefore, Dr. Doyle is not entitled to a DEA registration in that State. Because Dr. Doyle is not entitled to a DEA registration in Florida due to his lack of State authorization to handle controlled substances, the acting Deputy Administrator concludes that it is unnecessary to address whether his registration should be revoked based upon the other grounds asserted in the Notice of Suspension, Order to Show Cause. See Fereida Walker-Graham, M.D., 68 FR 24761 (2003); Nathaniel-Aikens-Afful, M.D., 62 FR 16871 (1997); Sam F. Moore, D.V.M., 58 FR 14428 (1993).

Accordingly, the Acting Deputy Administrator of the Drug Enforcement Administration, pursuant to the authority vested in her by 21 U.S.C. 823 and 824 and 28 CFR 0.100(b) and 0.104, hereby orders that DEA Certificate of Registration, BD0504200, issued to Rory Patrick Doyle, M.D. be, and it hereby is, revoked. The Acting Deputy Administrator further orders that any pending applications for renewal or modification of such registration be, and they hereby are, denied. This order is effective April 12, 2004.

Dated: February 20, 2004.
Michele M. Leonhart,
Acting Deputy Administrator.

[FR Doc. 04-5483 Filed 3-10-04; 8:45 am]

BILLING CODE 4410-09-M